DEPARTMENT OF HEALTH AND HUMAN SERVICES

Administration for Children and Families

Proposed Information Collection Activity; Comment Request

Proposed Projects

Title: Evaluation of the Early Head Start Fatherhood Demonstration.

OMB No.: New Collection.

Description: ACYF, in partnership with the Office of Child Support Enforcement (OCSE), recently funded 21 Early Head start grantees to develop and implement creative practices to increase the involvement of fathers in their Early Head Start program and in the lives of their children. This submission requests approval to conduct the survey of demonstration staff and to collect father participation data from the demonstration programs.

Respondents: To reduce of the burden of demonstration staff, the survey will be configured in four versions. The Director Version will be completed by the Early Head Start program directors. The Father Coordinator Version will be completed by the staff member responsible for father activities. The Family Specialist version will be completed by the staff member who works most closely with the Early Head Start families in the home. The Teacher Version will be completed by the staff member working with families of children participating in the Early Head Start child care programs.

Annual Burden Estimates
Instrument | Number of respondents | Number of responses per respondent | Average burden hours per response | Total burden hours
Director Version | 21 | 2 | .5 | 18.9
Father Coordinator Version | 21 | 2 | .5 | 17.8
Family Specialist Version | 21 | 2 | .4 | 14.2
Teacher Version | 13 | 2 | .4 | 8.8
Estimated total Annual Burden Hours: |  |  |  | 59.7

In compliance with the requirements of Section 3506(c)(2)(A) of the Paperwork Reduction Act of 1995, the Administration for Children and Families is soliciting public comment on the specific aspects of the information collection described above. Copies of the proposed collection of information can be obtained and comments may be forwarded by writing to the Administration for Children and Families, Office of Information Services, 370 L'Enfant Promenade, SW., Washington, DC 20447, Attn: ACF Reports Clearance Officer. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Dated: August 30, 2001.
Bob Sargis,
Reports Clearance Officer.

[FR Doc. 01-22347 Filed 9-5-01; 8:45 am]

BILLING CODE 4184-01-M